DEPARTMENT OF HEALTH AND HUMAN SERVICES

Administration for Children and Families

Proposed Information Collection Activity; Evaluation of the Center for Legal and Judicial Innovation and Advancement (CLJIA) (Previously Evaluation of the Child Welfare Capacity Building Collaborative) (Office of Management and Budget #0970-0576)

AGENCY: Children's Bureau, Administration for Children and Families, Department of Health and Human Services.

ACTION: Request for public comments.

SUMMARY: This collection relates to survey instruments to be administered in conjunction with technical assistance (TA) delivered to legal and judicial staff who participate in strategic planning workshops and attorneys and judicial trainings with a Children's Bureau TA provider. This is a revision and extension to Office of Management and Budget (OMB) #0970-0576) to remove instruments that are no longer in use, revise the title of the collection, and to revise the name of the TA provider in the instruments still in use.

DATES: Comments due February 28, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: This request will remove most of the prior instruments approved under OMB #0970-0576. The larger project was successful in getting information about the broad array of TA. It also showed therein that there was more diversity among the audiences being served than anticipated, and thus, CB had opted to pursue evaluation individually by Center going forward. There were larger scope and approach changes for the other prior Centers, and those evaluations will need to be reimagined.

The remaining three instruments are and will continue to be used by the Center for Legal and Judicial Innovation and Advancement (CLJIA) and the Children's Bureau to improve the development and delivery of CJLIA services, specifically the Academies and Workshops, and assess the quality, satisfaction with services, and impact on their intended outcomes, including increased knowledge and skills. Data collection includes online and paper-based surveys and assessments administered to participants in Academies and Workshops.

There are no significant changes to the instruments. The name of the TA provider was changed and that has been updated.

Respondents: Child welfare and court professionals.

Annual Burden Estimates
Instrument | Total number of respondents | Total number of responses per respondent | Average burden hours per response | Total burden hours | Annual burden hours
Workshop Feedback Survey | 480 | 1 | 0.07 | 46.1 | 15
Academy Feedback Survey | 1,050 | 1 | 0.07 | 73.5 | 25
Pre/Post Academy Assessment | 1,050 | 2 | 0.22 | 462 | 154
Estimated Total Annual Burden Hours |  |  |  |  | 194

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 5106(b)(5); 42 U.S.C. 5113(b)(4); 42 U.S.C. 629h.

Mary C. Jones,
ACF/OPRE Certifying Officer.

[FR Doc. 2024-31119 Filed 12-27-24; 8:45 am]

BILLING CODE 4184-29-P